DEPARTMENT OF TRANSPORTATION

Federal Railroad Administration

Notice of Petition for Waiver of Compliance

In accordance with Part 211 of Title 49 Code of Federal Regulations (CFR), notice is hereby given that the Federal Railroad Administration (FRA) has received a request for a temporary waiver of compliance from certain requirements of Federal railroad safety regulations. The individual petition is described below, including the party seeking relief, the regulatory provisions involved, the nature of the relief being requested, and the petitioner's argument in favor of relief.

South Carolina Public Railways

[Docket Number FRA-2008-0004]

South Carolina Public Railways (SCPR) has submitted a request for a temporary waiver from the requirements of 49 CFR Part 236, Subpart H, in order to allow SCPR to utilize Railsoft System, Inc.'s TrackAccess Electronic Block Register System in the autonomous mode on approximately 15.3 miles of track belonging to its subsidiary, the East Cooper & Berkeley Railroad (ECBR), until a Railroad Safety Program Plan (RSPP) and a Product Safety Plan (PSP) are completed, submitted to FRA, and approved. The TrackAccess system is presently utilized on ECBR in the assisted mode. Maximum speed on TrackAccess controlled track will be 20 mph.

Neither an RSPP, PSP, or an Informational Filing to allow testing, as are required under 49 CFR 236.905, 236.907, or 236.913 respectively, have yet been submitted. SCPR anticipates the necessary RSPP and PSP will be completed and submitted to FRA no later than June 2008.

As described by SCPR, the TrackAccess system is a computer application that is capable of electronically generating and/or delivering exclusive track occupancy permission for both trains and roadway workers on designated track. TrackAccess may be operated in one of two modes-assisted or autonomous. In the assisted mode, a track authority is obtained from the system and electronically issued to the individual requesting the authority by a controller or dispatcher. In the autonomous mode, the authority is electronically obtained directly from TrackAccess by the individual requesting the authority, and no dispatcher is involved. TrackAccess is designed for low traffic shortline, branchline, and yard rail operations. In the view of the petitioner, TrackAccess protects train movements, it does not direct train movements.

According to SCPR, safety features of TrackAccess include: (1) protection against the issuance of overlapping permissions; (2) positive identification and verification of individuals requesting and receiving permissions; (3) verification of receipt of safety bulletins prior to issuance of permissions; and (4) required “three-part communication” procedures for telephony transactions.

Although the current petition is from the named party, FRA anticipates that, should relief be granted to the named petitioner, other petitioners may step forward. In order to avoid duplicative publications and filings related to this request for temporary relief, FRA also requests comments regarding whether, and under what conditions, FRA should permit other parties similarly situated to subscribe to any relief provided in this docket.

FRA notes that the instant petition was not accompanied by supporting safety data. However, FRA is advised that such data will be filed. Accordingly, potential commenters are requested to monitor the docket status and respond when such data is filed.

Interested parties are invited to participate in these proceedings by submitting written views, data, or comments. All communications concerning these proceedings should identify the appropriate docket number (e.g., Waiver Petition Docket Number FRA-2008-0004) and may be submitted by one of the following methods:

Web site: http://www.regulations.gov. Follow the online instructions for submitting comments.

Fax: 202-493-2251.

Mail: Docket Operations Facility, U.S. Department of Transportation, 1200 New Jersey Avenue, SE., W12-140, Washington, DC 20590.

Hand Delivery: 1200 New Jersey Avenue, SE., Room W12-140, Washington, DC. 20590, between 9 a.m. and 5 p.m. Monday through Friday, except Federal holidays.

FRA does not anticipate scheduling a public hearing in connection with these proceedings since the facts do not appear to warrant a hearing. If any interested party desires an opportunity for oral comment, they should notify FRA, in writing, before the end of the comment period and specify the basis for their request.

Communications received within 30 days of the date of this notice or within 30 days following the filing of supporting safety data, whichever is later, will be considered by FRA before final action being taken. Comments received after this period will be considered as far as practicable.

All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment on behalf of an association, business, labor union, etc.). You may review the DOT's complete Privacy Act Statement in the Federal Register published on April 11, 2000 (Volume 65, Number 70; Pages 19477-78).

Issued in Washington, DC, on February 8, 2008.
Grady C. Cothen, Jr.,
Deputy Associate Administrator for Safety Standards and Program Development.

[FR Doc. E8-2660 Filed 2-12-08; 8:45 am]

BILLING CODE 4910-06-P